SURFACE TRANSPORTATION BOARD

[Docket No. AB 286 (Sub-No. 8X)]

The New York, Susquehanna and Western Railway Corporation—Abandonment Exemption—in Bergen County, N.J.

The New York, Susquehanna and Western Railway Corporation (NYSW) has filed a verified notice of exemption under 49 CFR part 1152 subpart F—Exempt Abandonments to abandon a segment of rail line between milepost 15.80 in Lodi, N.J., and milepost 14.50 in Hackensack, N.J., (the Lodi Branch), and a segment of rail line between milepost 17.30 in Elmwood Park, N.J., and milepost 18.40 in Garfield, N.J. (the Passaic Branch) (collectively, the Lines). The Lodi Branch traverses U.S Postal Service Zip Codes 07644 and 07601 and the Passaic Branch traverses U.S. Postal Service Zip Codes 07407 and 07026.

NYSW has certified that: (1) No local traffic has moved over the Lines for over 10 years; (2) no overhead traffic has moved over the Lines for over 10 years; (3) no formal complaint filed by a user of rail service (or by a state or local government entity acting on behalf of such user) regarding NYSW's cessation of service over the Lines is either pending with the Surface Transportation Board (Board) or with any U.S. District Court or has been decided in favor of complainant within the past two years; and (4) the requirements at 49 CFR 1105.7 and 1105.8 (notice of environmental and historic report), 49 CFR 1105.12 (newspaper publication), and 49 CFR 1152.50(d)(1) (notice to governmental agencies) have been met.

Any employee of NYSW adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received,¹ this exemption will be effective on January 30, 2021, unless stayed pending reconsideration. Petitions to stay that do not involve environmental issues ² must be filed by January 8, 2021. Formal expressions of intent to file an OFA under 49 CFR 1152.27(c)(2), and interim trail use/rail banking requests under 49 CFR 1152.29 must be filed by January 11, 2021.³ Petitions to reopen or requests for public use conditions under 49 CFR 1152.28 must be filed by January 21, 2021, with the Surface Transportation Board, 395 E Street SW, Washington, DC 20423-0001.

¹ Persons interested in submitting an OFA must first file a formal expression of intent to file an offer, indicating the type of financial assistance they wish to provide (i.e., subsidy or purchase) and demonstrating that they are preliminarily financially responsible. See 49 CFR 1152.27(c)(2)(i).

² The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

³ Filing fees for OFAs and trail use requests can be found at 49 CFR 1002.2(f)(25) and (27), respectively.

A copy of any petition filed with the Board should be sent to NYSW's representative, Eric M. Hocky, Clark Hill, PLC, Two Commerce Square, 2001 Market St., Suite 2620, Philadelphia, PA 19103.

If the verified notice contains false or misleading information, the exemption is void ab initio.

NYS&W has filed a combined environmental and historic report that addresses the potential effects, if any, of the abandonment on the environment and historic resources. OEA will issue a Draft Environmental Assessment (Draft EA) by January 8, 2021. The Draft EA will be available to interested persons on the Board's website, by writing to OEA, or by calling OEA at (202) 245-0305. Assistance for the hearing impaired is available through the Federal Relay Service at (800) 877-8339. Comments on environmental and historic preservation matters must be filed within 15 days after the Draft EA becomes available to the public.

Environmental, historic preservation, public use, or interim trail use/rail banking conditions will be imposed, where appropriate, in a subsequent decision.

Pursuant to the provisions of 49 CFR 1152.29(e)(2), NYSW shall file a notice of consummation with the Board to signify that it has exercised the authority granted and fully abandoned the Line. If consummation has not been effected by NYSW's filing of a notice of consummation by December 31, 2021, and there are no legal or regulatory barriers to consummation, the authority to abandon will automatically expire.

Board decisions and notices are available at www.stb.gov.

Decided: December 23, 2020.
By the Board, Scott M. Zimmerman, Acting Director, Office of Proceedings.
Tammy Lowery,
Clearance Clerk.

[FR Doc. 2020-28845 Filed 12-30-20; 8:45 am]

BILLING CODE 4915-01-P